DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 4, 2003.

Interested persons are invited to submit written comments regarding the subject matter of the investigations to the Director, Division of Trade Adjustment Assistance, at the address shown below, not later than August 4, 2003.

The petitions filed in this case are available for inspection at the Office of the Director, Division of Trade Adjustment Assistance, Employment and Training Administration, U.S. Department of Labor, Room C-5311, 200 Constitution Avenue, NW., Washington, DC 20210.

Signed at Washington, DC this 16th day of July 2003.
Timothy Sullivan,
Director, Division of Trade Adjustment Assistance.

Appendix

Petitions Instituted Between 07/08/2003 and 07/11/2003

TA-W | Subject firm (petitioners) | Location | Date of institution | Date of petition
52,234 | Kellwood Company (Comp) | Calhoun City, MS | 07/08/2003 | 06/26/2003
52,235 | Honeywell Nylon, Inc. (Comp) | Anderson, SC | 07/08/2003 | 07/07/2003
52,236 | International Wire (Wkrs) | Kendallville, IN | 07/08/2003 | 07/02/2003
52,237 | Alstom Power, Inc. (IBB) | Chattanooga, TN | 07/08/2003 | 07/03/2003
52,238 | PCS Administration (USA), Inc. (Wkrs) | North Brook, IL | 07/08/2003 | 07/04/2003
52,239 | Titan Tire Corp (USWA) | Des Moines, IA | 07/08/2003 | 06/24/2003
52,240 | LTD Industries, Inc. (Comp) | Lewistown, IL | 07/08/2003 | 06/30/2003
52,241 | Research Seeds, Inc. (Comp) | St. Joseph, MO | 07/08/2003 | 07/03/2003
52,242 | Louisiana Pacific Corp. (Comp) | Belgrade, MT | 07/08/2003 | 07/07/2003
52,243 | Nestle Purina Pet Food (Wkrs) | St. Joseph, MO | 07/08/2003 | 07/01/2003
52,244 | Schneider Electric—Square D (Comp) | Cedar Rapids, IA | 07/08/2003 | 07/02/2003
52,245 | Thomasville Furniture Industries, Inc. (C | Winston Salem, NC | 07/08/2003 | 07/03/2003
52,246 | U.S. Data Source (CA) | Rancho Cucamong, CA | 07/08/2003 | 07/07/2003
52,247 | Mackie Designs, Inc. (Comp) | Woodinville, WA | 07/08/2003 | 07/02/2003
52,248 | Fibergrate Composite Structures, Inc. (W | Piney Flats, TN | 07/08/2003 | 07/01/2003
52,249 | Paul Schurman Machine, Inc. (Comp) | Ridgefield, WA | 07/08/2003 | 07/07/2003
52,250 | Hi-Tech Plastics, Inc. (Comp) | Cambridge, MD | 07/08/2003 | 06/27/2003
52,251 | Waukesha Cherry Burrell—SPX (WI) | Delevan, WI | 07/08/2003 | 07/08/2003
52,252 | Richmond Management LLC (Comp) | Talbott, TN | 07/08/2003 | 07/03/2003
52,253 | Scope Molding, LLC (Wkrs) | Almena, WI | 07/09/2003 | 07/01/2003
52,254 | Alexander Fabircs (Wkrs) | Burlington, NC | 07/09/2003 | 07/01/2003
52,255 | Solectron Technology (Comp.) | Charlotte, NC | 07/09/2003 | 07/01/2003
52,256 | Telco Systems, a BATM Co. (MA) | Foxboro, MA | 07/09/2003 | 07/08/2003
52,257 | Stoneville Furniture Co., Inc. (Comp) | Stoneville, NC | 07/09/2003 | 07/09/2003
52,258 | Block Drug Co. (Comp) | Jersey City, NJ | 07/09/2003 | 07/27/2003
52,259 | Bindery, Inc., (The) (MN) | Cambridge, MN | 07/09/2003 | 07/08/2003
52,260 | Rockwell Automation (Comp) | Mequon, WI | 07/10/2003 | 07/08/2003
52,261 | Cummings Fisheries (Comp) | Dillingham, AK | 07/10/2003 | 07/10/2003
52,262 | Sierra Pine Ltd. (Comp) | Springfield, OR | 07/10/2003 | 07/10/2003
52,263 | Trelleborg Automotive (Comp) | Logansport, IN | 07/10/2003 | 07/10/2003
52,264 | Springs Industries, Inc. (Comp) | Lyman, SC | 07/10/2003 | 07/10/2003
52,265 | Gasboy International LLC (Comp) | Lansdale, PA | 07/10/2003 | 07/10/2003
52,266 | Dana Corporation (Comp) | Crenshaw, MS | 07/10/2003 | 07/10/2003
52,267 | Ken-Bar Manufacturing (Comp) | Baldwin, GA | 07/10/2003 | 07/10/2003
52,268 | California Cedar Products (Comp) | McCloud, CA | 07/10/2003 | 07/10/2003
52,269 | L.A. Darling Co. (Comp) | Paragould, AR | 07/10/2003 | 07/10/2003
52,270 | LM Services LLC (Comp) | Cumberland, MD | 07/10/2003 | 07/10/2003
52,271 | Kerr McGee Chemical (Comp) | Theodore, AL | 07/10/2003 | 07/10/2003
52,272 | Cooper Bussmann (Comp) | Black Mountain, NC | 07/10/2003 | 07/10/2003
52,273 | Rapidigm (Comp) | Pittsburgh, PA | 07/10/2003 | 07/10/2003
52,274 | Thomson Incorporated (Comp) | Circleville, OH | 07/10/2003 | 07/10/2003
52,275 | Cordis Corp. (Comp) | Miami Lakes, FL | 07/10/2003 | 07/10/2003
52,276 | Bureau of Engraving, Inc. (Comp) | Minneapolis, MN | 07/10/2003 | 07/10/2003
52,277 | Hubbell Electrical Products (Comp) | Louisiana, MO | 07/10/2003 | 07/10/2003
52,278 | Brandt, A Varco Company (Comp) | Okllalhoma City, OK | 07/10/2003 | 07/10/2003
52,279 | Jacuzz Bros (Comp) | Little Rock, AR | 07/11/2003 | 07/09/2003
52,280 | Stone County Ironworks (Comp) | Mountain View, AR | 07/11/2003 | 07/09/2003
52,281 | Tiffany Industries (Comp) | Conway, AR | 07/11/2003 | 07/09/2003
52,282 | Joe A. Craig (Comp) | Elfin Cove, AK | 07/11/2003 | 07/08/2003
52,283 | Peregrine's Catch (Comp) | Haines, AK | 07/11/2003 | 07/08/2003
52,284 | Fisher Pierce (Comp) | Weymouth, MA | 07/11/2003 | 07/09/2003
52,285 | Kinko's Inc. (Comp) | Mission, KS | 07/11/2003 | 07/10/2003
52,286 | L. A. Darling (Comp) | Piggot, AR | 07/11/2003 | 07/09/2003
52,287 | Vesuvius USA (Comp) | Cleveland, OH | 07/11/2003 | 07/08/2003
52,288 | Pliana, Inc. (Comp) | Charlotte, NC | 07/11/2003 | 06/30/2003
52,289 | Phillips Plastic Medical Molding (Comp) | Menomonie, WI | 07/11/2003 | 07/08/2003
52,290 | Ace Supply, Inc. (Comp) | Richmond, IN | 07/11/2003 | 07/11/2003
52,291 | Sterling China Co. (Comp) | Wellsville, OH | 07/11/2003 | 07/11/2003
52,292 | Manning Lighting (Comp) | Sheboygan, WI | 07/11/2003 | 07/11/2003
52,293 | Hilti (Comp) | Tulsa, OK | 07/11/2003 | 07/09/2003
52,294 | Richardson Brothers Furniture Co. (Comp) | Sheboygan Falls, WI | 07/11/2003 | 07/09/2003
52,295 | Breed Steering Systems (Comp) | Brownsville, TX | 07/11/2003 | 07/11/2003
52,296 | L. A. Darling Co. (Comp) | Paragould, AR | 07/11/2003 | 07/03/2003

[FR Doc. 03-18804 Filed 7-23-03; 8:45 am]

BILLING CODE 4510-30-M